DEPARTMENT OF EDUCATION

Arts in Education Model Development and Dissemination Program

AGENCY: Office of Innovation and Improvement, Department of Education.

ACTION: Notice of final priority, requirements, and definitions.

SUMMARY: The Assistant Deputy Secretary for Innovation and Improvement announces a priority, requirements, and definitions under the Arts in Education Model Development and Dissemination program. We may use this priority, and these requirements and definitions for competitions in fiscal year (FY) 2005 and later years. We take this action to focus Federal financial assistance on an identified national need for the enhancement, expansion, documentation, evaluation, and dissemination of innovative, cohesive models that are based on research and have demonstrated that they effectively: (1) Integrate standards-based arts education into the core elementary and middle school curricula; (2) strengthen standards-based arts instruction in these grades; and (3) improve students' academic performance, including their skills in creating, performing, and responding to the arts. We intend the priority, requirements, and definitions to enable the Department to award grants that increase the amount of information on effective models for arts education that is available nationally and that integrate the arts with standards-based education programs.

DATES: Effective Date: This priority and these requirements and definitions are effective April 29, 2005.

FOR FURTHER INFORMATION CONTACT: Diane Austin, U.S. Department of Education, 400 Maryland Avenue, SW., room 4W214, Washington, DC 20202-5930. Telephone: (202) 260-1280 or via Internet: Diane.Austin@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION: The Arts in Education Model Development and Dissemination Grant program is authorized by Title V, Part D, Subpart 15 of the Elementary and Secondary Education Act of 1965, as reauthorized by the No Child Left Behind Act of 2001 (ESEA). It provides resources that local educational agencies (LEAs) and other eligible applicants can use in pursuit of the objectives of the No Child Left Behind Act of 2001 (NCLB), which aims for all elementary and secondary students to achieve to high standards. This program provides an opportunity for eligible entities to implement and expand effective model programs in schools identified for improvement, corrective action, or restructuring under Title I, Part A of the ESEA.

We published a notice of proposed priority, requirements, and definitions for this program in the Federal Register on January 13, 2005 (70 FR 2397). The notice of proposed priority, requirements, and definitions included a discussion of the significant issues and analysis carried out in the determination of the priority, definitions, and application requirements. (See pages 2398 through 2399 of that notice.)

Except for minor editorial revisions, there are no differences between the notice of proposed priority, requirements, and definitions and this notice of final priority, requirements, and definitions.

Analysis of Comments and Changes

In response to our invitation in the notice of proposed priority, requirements, and definitions, nine parties submitted comments. An analysis of the comments we received and our responses follows.

We discuss substantive issues under the title of the priority, requirement, or definition to which they pertain. Generally, we do not address technical and other minor changes—and suggested changes that we are not authorized to make under the applicable statutory authority.

A. Proposed Priority

Comment: One commenter stated that the priority should give preference to applicants in rural areas because, the commenter believes, rural areas with migrant populations and large second language populations are overlooked while a great deal of funding is directed to urban areas.

Discussion: This program provides an opportunity for eligible entities to develop programs in schools, including schools identified for improvement, corrective action, or restructuring under Title I, Part A of the ESEA. One of the application selection criteria requires applicants to describe the extent to which specific gaps or weaknesses in services, infrastructure, or opportunities have been identified and will be addressed by the proposed project, including the nature and magnitude of those gaps or weaknesses. This criterion provides an opportunity for applicants, both urban and rural, to provide evidence of need. The criterion should thus give both urban and rural applicants an opportunity to receive funding.

Change: None.

Comment: One commenter suggested that the priority include professional development for teachers and teaching artists.

Discussion: We agree that professional development for both teachers and teaching artists can be an important component of an arts education program. However, requiring that applicants include professional development for teachers and teaching artists would be too prescriptive. For example, not all high-quality projects might include the involvement of teaching artists in the project design, and not all projects might include professional development for both teachers and teaching artists. A broader priority is more appropriate.

Change: None.

Comments: One commenter suggested that the program be expanded to include high schools as well as elementary and middle schools to avoid the “disconnect” between middle and high school arts programs. Two additional comments, however, supported the priority as written.

Discussion: We agree that arts education is important in high school, but believe that this program should continue to serve elementary and middle school only. High school students more frequently have the opportunity to take art classes from teachers who are highly qualified in their subject area. Elementary and middle school teachers often are required to include the arts standards as a part of the core curriculum even if they have little or no pre-service arts instruction. The priority as proposed, therefore, would increase the opportunity for students in elementary and middle school grades to receive high-quality arts-infused instruction.

Change: None.

B. Proposed Application Requirement

Comment: One commenter suggested that the percentage of low-income students in at least one of the elementary or middle schools to be served by the project be increased from 35 percent to 50 percent.

Discussion: The requirement that at least one school receiving services have at least 35 percent of its students meeting the definition of “low-income” under Title I, Section 1113(a)(5) of the ESEA focuses the program on low-income schools, but allows a somewhat broader universe of schools to participate. We believe the smaller percentage requirement is appropriate for the purposes of this program.

Change: None.

C. Proposed Definitions

Comment: One commenter suggested that the definition of “art” include creative writing arts.

Discussion: Creative writing is generally considered in the domain of the humanities and is not included in the National Arts Standards.

Change: None.

Comment: One commenter suggested that the definition of “integrating” include “(i) promoting the transfer of learning between the arts and other subjects through lessons with dual (arts and academic) learning objectives.”

Discussion: Applicants will have the opportunity to develop projects with multiple learning objectives. We believe that the original definition, which is simpler and more flexible, will effectively promote the transfer of learning.

Change: None.

Note: This notice does not solicit applications. In any year in which we choose to use this priority, these requirements or these definitions, we invite applications through a notice in the Federal Register. When inviting applications we designate the priority as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the competitive preference priority (34 CFR 75.105(c)(2)(i)); or (2) selecting an application that meets the competitive preference priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priority

This priority supports projects that enhance, expand, document, evaluate, and disseminate innovative cohesive models that are based on research and have demonstrated their effectiveness in (1) integrating standards-based arts education into the core elementary or middle school curriculum, (2) strengthening standards-based arts instruction in the elementary or middle school grades, and (3) improving the academic performance of students in elementary or middle school grades, including their skills in creating, performing, and responding to the arts.

In order to meet this priority, an applicant must demonstrate that the model project for which it seeks funding (1) serves only elementary school or middle school grades, or both and (2) is linked to State and national standards intended to enable all students to meet challenging expectations and to improving student and school performance.

Requirements

Application Requirement

To be eligible for Arts in Education Model Development and Dissemination funds, applicants must propose to address the needs of low-income children by carrying out projects that serve at least one elementary or middle school in which 35 percent or more of the children enrolled are from low-income families (based on data used in meeting the poverty criteria in Title I, Section 1113(a)(5) of the Elementary and Secondary Education Act of 1965, as amended by the No Child Left Behind Act of 2001 (ESEA)).

Eligibility Requirement

To be eligible to receive funding under the Arts in Education Model Development and Dissemination program, an applicant must be:

(1) One or more LEAs, including charter schools that are considered LEAs under State law and regulations, that may work in partnership with one or more of the following:

• A State or local non-profit or governmental arts organization,

• A State educational agency (SEA) or regional educational service agency,

• An institution of higher education, or

• A public or private agency, institution, or organization, such as a community-or faith-based organization; or

(2) One or more State or local non-profit or governmental arts organizations that must work in partnership with one or more LEAs and may partner with one or more of the following:

• An SEA or regional educational service agency,

• An institution of higher education, or

• A public or private agency, institution, or organization, such as a community-or faith-based organization.

Note: If more than one LEA or arts organization wishes to form a consortium and jointly submit a single application, they must follow the procedures for group applications described in 34 CFR 75.127 through 34 CFR 75.129 of the Education Department General Administrative Regulations.

Definitions

As used in this notice—

Arts includes music, dance, theater, media arts, and visual arts, including folk arts.

Integrating means (i) encouraging the use of high-quality arts instruction in other academic/content areas and (ii) strengthening the place of the arts as a core academic subject in the school curriculum.

Based on research, when used with respect to an activity or a program, means that, to the extent possible, the activity or program is based on the most rigorous theory, research, and evaluation available and is effective in improving student achievement and performance and other program objectives.

Executive Order 12866

This notice of final priority, requirements, and definitions has been reviewed in accordance with Executive Order 12866. Under the terms of the order, we have assessed the potential costs and benefits of this regulatory action.

The potential costs associated with the notice of final priority, requirements, and definitions are those resulting from statutory requirements and those we have determined as necessary for administering this program effectively and efficiently.

In assessing the potential costs and benefits—both quantitative and qualitative—of this notice of final priority, requirements, and definitions, we have determined that the benefits of the final priority, requirements, and definitions justify the costs.

We also have determined that this regulatory action does not unduly interfere with State, local, and tribal governments in the exercise of their governmental functions.

We summarized the costs and benefits of this regulatory action in the notice of proposed priority, requirements and definitions.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may review this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.351D, Arts in Education Model Development and Dissemination Grant Program.)

Program Authority: 20 U.S.C. 7271.

Dated: March 24, 2005.
Michael J. Petrilli,
Acting Assistant Deputy Secretary for Innovation and Improvement.

[FR Doc. 05-6262 Filed 3-29-05; 8:45 am]

BILLING CODE 4000-01-P